DEPARTMENT OF COMMERCE

United States Patent and Trademark Office

Submissions for OMB Review; Comment Request; “Submissions Regarding Correspondence and Regarding Attorney Representation (Trademarks)”

The United States Patent and Trademark Office (USPTO) will submit to the Office of Management and Budget (OMB) for clearance the following proposal for collection of information under the provisions of the Paperwork Reduction Act (44 U.S.C. Chapter 35).

Agency: United States Patent and Trademark Office, Commerce.

Title: Submissions Regarding Correspondence and Regarding Attorney Representation (Trademarks).

OMB Control Number: 0651-0056.

Form Number(s):

• PTO Form 2196

• PTO Form 2201

Type of Request: Regular.

Number of Respondents: 84,291 per year.

Average Hours per Response: The USPTO estimates that it will take the public approximately between 5 minutes (0.08 hours) to 30 minutes (0.50 hours) to complete this information, depending on the complexity of the document. This includes the time to gather the necessary information, prepare the request, and submit them to the USPTO. The time estimates shown for the electronic forms in this collection are based on the average amount of time needed to complete and electronically file the associated form.

Burden Hours: 7,840.77 hours.

Cost Burden: $82.81 (postage costs).

Needs and Uses: The USPTO needs the information described in this collection to manage the various actions concerning the appointments and retention of attorneys and domestic representatives for trademark applications. The information in this collection is also a matter of public record and is utilized by the public for a variety of private business purposes related to establishing and enforcing trademark rights. The information is accessible online, through the USPTO Web site, as well as through various USPTO facilities. Additionally, the USPTO provides the information to the public through the Patent and Trademark Depository Library (PTDLs) System.

Affected Public: Businesses or other for-profits; not-for-profit institutions; individuals.

Frequency: On occasion.

Respondent's Obligation: Required to Obtain or Retain Benefits.

OMB Desk Officer: Nicholas A. Fraser, email: Nicholas_A._Fraser@omb.eop.gov. Once submitted, the request will be publicly available in electronic format through www.reginfo.gov. Follow the instructions to view Department of Commerce collections currently under review by OMB.

Further information can be obtained by:

• Email: InformationCollection@uspto.gov. Include “0651-0056 copy request” in the subject line of the message.

• Mail: Marcie Lovett, Records and Information Governance Division Director, Office of the Chief Technology Officer, United States Patent and Trademark Officer, P.O. Box 1450, Alexandria, VA 22313-1450.

Written comments and recommendations for the proposed information collection should be sent on or before October 25, 2017 to Nicholas A. Fraser, OMB Desk Officer, via email to Nicholas_A._Fraser@omb.eop.gov, or by fax to 202-395-5167, marked to the attention of Nicholas A. Fraser.

Marcie Lovett,
Records and Information Governance Division Director, OCTO, United States Patent and Trademark Office.

[FR Doc. 2017-20368 Filed 9-22-17; 8:45 am]

BILLING CODE 3510-16-P